DEPARTMENT OF EDUCATION

Applications for New Awards; Educational Technology, Media, and Materials for Individuals With Disabilities—Stepping-up Technology Implementation

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. As such, the Department of Education (Department) is issuing a notice inviting applications for new awards for fiscal year (FY) 2019 for Educational Technology, Media, and Materials for Individuals with Disabilities—Stepping-up Technology Implementation, Catalog of Federal Domestic Assistance (CFDA) number 84.327S. This notice relates to the approved information collection under OMB control number 1820-0028.

DATES: Applications Available: June 5, 2019.

Deadline for Transmittal of Applications: July 22, 2019.

Pre-Application Webinar Information: No later than June 10, 2019, OSERS will post pre-recorded informational webinars designed to provide technical assistance to interested applicants. The webinars may be found at www2.ed.gov/fund/grant/apply/osep/new-osep-grants.html.

Pre-Application Q & A Blog: No later than June 10, 2019, OSERS will open a blog where interested applicants may post questions about the application requirements for this competition and where OSERS will post answers to the questions received. OSERS will not respond to questions unrelated to the application requirements for this competition. The blog may be found at www2.ed.gov/fund/grant/apply/osep/new-osep-grants.html and will remain open until June 24, 2019. After the blog closes, applicants should direct questions to the person listed under FOR FURTHER INFORMATION CONTACT.

Deadline for Intergovernmental Review: September 18, 2019.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Terry Jackson, U.S. Department of Education, 400 Maryland Avenue SW, Room 5162, Potomac Center Plaza, Washington, DC 20202-5076. Telephone: (202) 245-6039. Email: Terry.Jackson@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Educational Technology, Media, and Materials for Individuals with Disabilities Program are to (1) improve results for children with disabilities by promoting the development, demonstration, and use of technology; (2) support educational activities designed to be of educational value in the classroom for children with disabilities; (3) provide support for captioning and video description that is appropriate for use in the classroom; and (4) provide accessible educational materials to children with disabilities in a timely manner.¹

¹ Applicants should note that other laws, including the Americans with Disabilities Act of 1990 (42 U.S.C. 12101 et seq.; 28 CFR part 35) and section 504 of the Rehabilitation Act of 1973 (29 U.S.C. 794; 34 CFR part 104), may require that State educational agencies and local educational agencies provide captioning, video description, and other accessible educational materials to students with disabilities when such materials are necessary to provide students with disabilities with equally integrated and equally effective access to the benefits of the educational program or activity, or as part of a “free appropriate public education” as defined in the Department's Section 504 regulation.

Priorities: This competition includes one absolute priority. In accordance with 34 CFR 75.105(b)(2)(v), the absolute priority, and the competitive preference priority within that priority, are from allowable activities specified in sections 674(c)(1)(D) and 681(d) of the Individuals with Disabilities Education Act (IDEA); 20 U.S.C. 1474(c)(1)(D) and 1481(d).

Absolute Priority: For FY 2019 and any subsequent year in which we make awards from the list of unfunded applications from this competition, this priority is an absolute priority. Under 34 CFR 75.105(c)(3), we consider only applications that meet this priority.

This priority is:

Stepping-up Technology Implementation.

Background:

The purpose of this priority is to fund three cooperative agreements to identify strategies needed to effectively implement technology tools ² based on promising evidence ³ that benefit children with disabilities ⁴ and their families, children with high needs ⁵ and their families, and educators; develop and disseminate products ⁶ that will help a broad range of sites to understand, use, and implement these technology tools; provide ongoing coaching and professional development supports to educators that will allow them to integrate the technology into curricula and programs to support high expectations for children with disabilities, service providers, and families; and scale-up and disseminate to additional sites.

² For the purposes of this priority, “technology tools” may include, but are not limited to, digital math text readers for students with visual impairments, reading software to improve literacy and communication development, and text-to-speech software to improve reading performance. These tools must assist or otherwise benefit students with disabilities.

³ For the purposes of this priority, “promising evidence” has the meaning set forth in 34 CFR 77.1.

⁴ In accordance with 34 CFR 300.8, “Child with a disability” means a child evaluated in accordance with the IDEA evaluation and eligibility procedures who is found to have a specific disability and, as a result of that disability, needs special education and related services. See also 20 U.S.C. 1401(3).

⁵ For the purposes of this priority, “children or students with high needs” means children or students at risk of educational failure or otherwise in need of special assistance or support, such as children and students who are living in poverty, who are English Learners, who are academically far below grade level, who have left school before receiving a regular high school diploma, who are at risk of not graduating with a regular high school diploma on time, who are homeless, who are in foster care, who have been incarcerated, or are children or students with disabilities.

⁶ For the purposes of this priority, “products” may include, but are not limited to, apps, instruction manuals, lesson plans, demonstration videos, ancillary instructional materials, and professional development modules such as collaborative groups, coaching, mentoring, or online supports.

Congress recognized in the 2004 reauthorization of IDEA that “almost 30 years of research and experience has demonstrated that the education of children with disabilities can be made more effective by . . . supporting the development and use of technology, including assistive technology devices and assistive technology services, to maximize accessibility for children with disabilities” (section 601(c)(5) of IDEA).

Innovative technology tools and programs, including assistive technology devices and services, are especially helpful as educators work to engage students who struggle with the general education curriculum. However, having access to tools alone does not ensure improved outcomes.

When educators receive the necessary supports to use technology effectively, technology integration in early childhood settings may increase social awareness and collaborative behaviors, improve abstract reasoning and problem-solving abilities, and enhance visual-motor coordination.

Technologies (e.g., online career-readiness tools, computer-based writing tools to support literacy, web-based curriculum to support 21st-century learning) can support State educational agencies (SEAs) and local educational agencies (LEAs) to (a) improve student learning and engagement; (b) accommodate the special needs of students; (c) facilitate student, family, and teacher access to digital content and resources; and (d) improve the quality of instruction through personalized learning and data. Furthermore, while the implementation of technology for K-12 students typically occurs in public school settings, including public charter and magnet schools, there are over two million students attending parochial schools, another segment of the student population that could benefit from building 21st-century skills through innovative technology.

As stated in section 4109 of the Elementary and Secondary Education Act of 1965, as amended by the Every Student Succeeds Act (ESEA), technologies can be used to support LEAs and SEAs to increase student access to personalized, rigorous learning experiences. The Education Freedom Scholarships policy proposal would also allow States to design student scholarship programs that could be tailored to expand access to innovative technology tools and programs for students with disabilities.

Notwithstanding the potential benefits of using technology to improve learning outcomes, implementation can be a significant challenge. Even as access to coursework online expands, and the number of students involved in online learning has grown, many of these online learning technologies are not readily accessible to students with disabilities. Educators and families need products and resources that can assist them to readily implement technology tools for children with disabilities.

In response to this need and to address this issue for children with disabilities, Stepping-up Technology Implementation projects build on technology development efforts by identifying, developing, and disseminating products and resources that promote the effective implementation ⁷ of instructional and assistive technology tools in early childhood programs or K-12 settings.⁸

⁷ In this context, “effective implementation” means “making better use of research findings in typical service settings through the use of processes and activities (such as accountable implementation teams) that are purposeful and described in sufficient detail such that independent observers can detect the presence and strength of these processes and activities.” (Fixen, D.L., Naoom, S. F., Blasé, K.A., Friedman, R.M., & Wallace, F. (2005). Implementation Research: A synthesis of the literature. Tampa, FL: University of South Florida, Louis de la Parte Florida Mental Health Institute. The National Implementation Research Network (FMHI Publication #231)).

⁸ For the purposes of this priority, “settings” include general education classrooms; special education classrooms; high-quality early childhood programs; private schools, including parochial schools; home education; after school programs; juvenile justice facilities; and settings other than those listed above in which students may receive services under IDEA.

Projects must be operated in a manner consistent with nondiscrimination requirements contained in the U.S. Constitution and Federal civil rights laws.

Priority:

The Department intends to fund three cooperative agreements to (a) identify strategies needed to readily implement existing technology tools based on promising evidence that benefit children with disabilities and children with high needs; and (b) develop and disseminate products (see footnote 5; e.g., instruction manuals, lesson plans, demonstration videos, ancillary instructional materials) that will assist educators and families in early childhood programs or K-12 settings to readily use, understand, and implement these technology tools.

To be considered for funding under this priority, applicants must meet the application requirements. Any project funded under this absolute priority must also meet the programmatic and administrative requirements specified in the priority.

Application Requirements

An applicant must include in its application—

(a) A project design that is based on promising evidence;

(b) A logic model ⁹ or conceptual framework that depicts, at a minimum, the goals, activities, project evaluation, methods, performance measures, outputs, and outcomes of the proposed project.

⁹ “Logic model” (also referred to as a theory of action) means a framework that identifies key project components of the proposed project (i.e., the active “ingredients” that are hypothesized to be critical to achieving the relevant outcomes) and describes the theoretical and operational relationships among the key project components and relevant outcomes. See 34 CFR 77.1.

Note: The following websites provide more information on logic models and conceptual frameworks: www.osepideasthatwork.org/logicModel; www.osepideasthatwork.org/resources-grantees/program-areas/ta-ta/tad-project-logic-model-and-conceptual-framework; www2.ed.gov/policy/elsec/leg/essa/guidanceuseseinvestment.pdf; and http://ies.ed.gov/pubsearch/pubsinfo.asp?pubid=REL2015057.

(c) A plan to implement the activities described in the Project Activities section of this priority;

(d) A plan, linked to the proposed project's logic model or conceptual framework, for a formative evaluation of the proposed project's activities. The plan must describe how the formative evaluation will use clear performance objectives to ensure continuous improvement in the operation of the proposed project, including objective measures of progress in implementing the project and ensuring the quality of products and services;

(e) Documentation assuring that the final products disseminated to help sites effectively implement technology tools will be both open educational resources (OER) ¹⁰ and licensed through an open access licensing authority;

¹⁰ OERs are teaching and learning materials that the public may freely use and reuse at no cost. Unlike fixed, copyrighted resources, OER have been authored or created by an individual or organization that chooses to retain few, if any, ownership rights. Retrieved from www.oercommons.org/about.

(f) Documentation that the technology tool used by the project is fully developed,¹¹ based on promising evidence, and addresses, at a minimum, the following principles of universal design for learning (UDL):

¹¹ A technology that is “fully developed” is a completed, existing technology that is ready to be implemented. Any enhancements or additions to the existing technology should be minor and time-limited and must be completed before the end of year one.

(1) Multiple means of presentation so that students can approach information in more than one way (e.g., specialized software and websites, screen readers that include features such as text-to-speech, changeable color contrast, alterable text size, or selection of different reading levels);

(2) Multiple means of expression so that all students can demonstrate knowledge through options such as writing, online concept mapping, or speech-to-text programs, where appropriate; and

(3) Multiple means of engagement to stimulate interest in and motivation for learning (e.g., options among several different learning activities or content for a particular competency or skill and providing opportunities for increased collaboration consistent with UDL principles); ¹²

¹² For more information on UDL principles, see www.udlcenter.org/aboutudl/whatisudl/3principles.

(g) A plan for how the project will sustain project activities after funding ends;

(h) A plan, for recruiting and selecting sites,¹³ which includes appropriate consideration of a wide range of settings where children with disabilities are served, including the following sites:

¹³ For more information on recruiting and selecting sites, refer to Assessing Sites for Model Demonstration: Lessons Learned from OSEP Grantees at http://mdcc.sri.com/documents/MDCC_Site_Assessment_Brief_09-30-11.pdf.

(1) Three development sites. Development sites are the sites in which iterative development ¹⁴ of the products and resources intended to support the implementation of technology tools will occur. The project must start implementing the technology tool with one development site in year one of the project period and two additional development sites in year two;

¹⁴ For the purposes of this priority, “iterative development” refers to a process of testing, systematically securing feedback, and then revising the educational intervention to increase the likelihood that it will be implemented with fidelity. (Diamond, K.E., & Powell, D.R. (2011). An iterative approach to the development of a professional development intervention for Head Start teachers. Journal of Early Intervention, 33(1), 75-93).

(2) Four pilot sites. Pilot sites are the sites in which try-out, formative evaluation, and refinement of the products and resources will occur. The project must work with the four pilot sites during years three and four of the project period; and

(3) Ten dissemination sites. Dissemination sites will be selected if the project is extended for a fifth year. Dissemination sites will be used to (a) refine the products for use by educators, and (b) evaluate the performance of the tool. Dissemination sites will receive less TA from the project than development or pilot sites. Also, at this stage (i.e., the fifth year), dissemination sites will extend the benefits of the technology tool to additional students. To be selected as a dissemination site, eligible sites must commit to working with the project to implement the technology tool.

Note: A site may not serve in more than one category (i.e., development, pilot, dissemination).

Note: A minimum of three of the seven development and pilot sites must be in settings other than traditional public elementary and secondary schools. A minimum of four of the 10 dissemination sites must be in settings other than traditional public elementary and secondary schools. These non-traditional sites must otherwise meet the requirements of each category listed above.

(i) Information on the development and pilot settings, including student demographics and other pertinent data (e.g., whether the settings are schools identified for comprehensive or targeted support and improvement in accordance with section 1111(c)(4)(C)(iii), (c)(4)(D), or (d)(2)(C)-(D) of the ESEA); and

(j) A budget for attendance at the following:

(1) A one and one-half day kick-off meeting to be held in Washington, DC, after receipt of the award, and an annual planning meeting held in Washington, DC, with the OSEP project officer and other relevant staff during each subsequent year of the project period.

Note: Within 30 days of receipt of the award, a post-award teleconference must be held between the OSEP project officer and the grantee's project director or other authorized representative.

(2) A three-day project directors' conference in Washington, DC, during each year of the project period.

(3) Two annual two-day trips to attend Department briefings, Department-sponsored conferences, and other meetings, as requested by OSEP.

Project Activities

To meet the requirements of this priority, the project, at a minimum, must conduct the following activities:

(a) Recruit a minimum of three development sites and four pilot sites in accordance with the plan proposed under paragraphs (h) and (i) of the Application Requirements section of this notice.

Note: Final dissemination site selection will be determined in consultation with the OSEP project officer following the kick-off meeting.

(b) Identify and develop resources and products that, when used to support the implementation of the technology tool, create accessible learning opportunities for all children, including children with disabilities and children with high needs, and support the sustained implementation of the selected technology tool. Development of the products must be an iterative process beginning in a single development school and continuing through repeated cycles of development and refinement in the other development sites, followed by a formative evaluation and refinement in the pilot sites. To support implementation of the technology tool the products and resources must, at a minimum, include—

(1) An instrument or method for assessing—

(i) The site staff's current technology uses and needs, current technology investments, firewall issues, and the knowledge and availability of dedicated on-site technology personnel;

(ii) The readiness of development and pilot sites to implement the technology tool. Any instruments and methods for assessing readiness may include resource inventory checklists, school self-study guides, and surveys of educators' and families' interests; and

(iii) Whether the technology tool has achieved its intended outcomes.

(c) Provide ongoing training to educators and families so that they might implement the technology tool with fidelity and to integrate it into the curriculum.

(d) Collect and analyze data on whether the technology tool has achieved its intended outcomes for early childhood development, K-12, or college- and career-readiness.

(e) Collect formative and summative data from the development and pilot sites to refine and evaluate the products.

(f) If the project is extended to a fifth year—

(1) Provide the products and the technology tool to no fewer than 10 dissemination sites; and

(2) Collect summative data about the success of the project's products and services in supporting implementation of the technology tool in the dissemination sites.

(g) By the end of the project period, provide—

(1) Information on the products and resources, as supported by the project evaluation, including any accessibility features, that will enable other sites to implement and sustain implementation of the technology tool;

(2) Information on the technology implementation report, including data on how educators and families used the technology, data on how technology impacted child outcomes, how technology was implemented with fidelity, and features of universal design for learning;

(3) Information on how the technology tool contributed to changed practices and improved early childhood outcomes, academic achievement, or college- and career-readiness for children with disabilities, as well as children with high needs (i.e., data to assess how well the project addressed the goals of the project as described in the logic model); and

(4) A plan for disseminating the technology tool and accompanying products beyond the sites directly involved in the project and how dissemination will be sustained after the project ends.

Cohort Collaboration and Support

OSEP project officer(s) will provide coordination support among the projects. Each project funded under this priority must—

(a) Participate in monthly conference-call discussions to share and collaborate on implementation and specific project issues; and

(b) Provide information annually using a template that captures descriptive data on project site selection, processes for installation of technology, and the use of technology and sustainability (i.e., the process of technology implementation).

Note: The following website provides more information about implementation research: http://nirn.fpg.unc.edu/learn-implementation.

Fifth Year of Project

The Secretary may extend a project one year beyond the initial 48 months to work with dissemination sites if the grantee is achieving the intended outcomes of the project (as demonstrated by data gathered as part of the project evaluation) and making a positive contribution to the implementation of a technology tool based on promising evidence with fidelity in the development and pilot sites. Each applicant must include in its application a plan for the full 60-month period. In deciding whether to continue funding the project for the fifth year, the Secretary will consider the requirements of 34 CFR 75.253(a), and will consider—

(a) The recommendation of a review team consisting of the OSEP project officer and other experts selected by the Secretary. This review will be held during the last half of the third year of the project period;

(b) The success and timeliness with which the requirements of the negotiated cooperative agreement have been or are being met by the project; and

(c) The degree to which the project's activities have contributed to changed practices and improved early childhood outcomes, academic achievement, or college- and career-readiness for students with disabilities.

Competitive Preference Priority: Within this absolute priority, we give competitive preference to applications that address the following priority. Under 34 CFR 75.105(c)(2)(i), we award an additional five points to an application that meets this priority.

This priority is:

Improving Academic Outcomes for Children with Disabilities (0 or 5 points).

Projects that are designed to improve outcomes for children with disabilities in one of the following areas:

(a) Literacy for children with disabilities in grades 3 through 5; or

(b) Science, technology, engineering, or mathematics (STEM) for children with disabilities enrolled in middle school (grades 6 through 8).

Waiver of Proposed Rulemaking: Under the Administrative Procedure Act (APA) (5 U.S.C. 553) the Department generally offers interested parties the opportunity to comment on proposed priorities. Section 681(d) of IDEA, however, makes the public comment requirements of the APA inapplicable to the priorities in this notice.

Program Authority: 20 U.S.C. 1474 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: $1,500,000.

Contingent upon the availability of funds and the quality of applications, we may make additional awards in FY 2020 from the list of unfunded applications from this competition.

Estimated Range of Awards: $450,000 to $500,000 per year.

Estimated Average Size of Awards: $475,000 per year.

Maximum Award: We will not make an award exceeding $500,000 for a single budget period of 12 months.

Estimated Number of Awards: 3.

Note: The Department is not bound by any estimates in this notice.

Project Period: Up to 48 months.

III. Eligibility Information

1. Eligible Applicants: SEAs; LEAs, including public charter schools that operate as LEAs under State law; IHEs; other public agencies; private nonprofit organizations; freely associated States and outlying areas; Indian Tribes or Tribal organizations; and for-profit organizations.

2. Cost Sharing or Matching: This program does not require cost sharing or matching.

3. Subgrantees: A grantee under this competition may not award subgrants to entities to directly carry out project activities described in its application. Under 34 CFR 75.708(e), a grantee may contract for supplies, equipment, and other services in accordance with 2 CFR part 200.

4. Other General Requirements: (a) Recipients of funding under this competition must make positive efforts to employ and advance in employment qualified individuals with disabilities (see section 606 of IDEA).

(b) Each applicant for, and recipient of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The significance of the problem or issue to be addressed by the proposed project;

(ii) The magnitude or severity of the problem to be addressed by the proposed project;

(iii) The extent to which specific gaps or weaknesses in services, infrastructure, or opportunities have been identified and will be addressed by the proposed project, including the nature and magnitude of those gaps or weaknesses;

(iv) The potential contribution of the proposed project to increased knowledge or understanding of educational problems, issues, or effective strategies; and

(v) The potential replicability of the proposed project or strategies, including, as appropriate, the potential for implementation in a variety of settings.

(b) Quality of project services (25 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age or disability.

(3) In addition, the Secretary considers the following factors:

(i) The extent to which the services to be provided by the proposed project reflect up-to-date knowledge from research and effective practice;

(ii) The extent to which the training or professional development services to be provided by the proposed project are of sufficient quality, intensity, and duration to lead to improvements in practice among the recipients of those services;

(iii) The extent to which the services to be provided by the proposed project involve the collaboration of appropriate partners for maximizing the effectiveness of project services;

(iv) The extent to which the services to be provided by the proposed project are appropriate to the needs of the intended recipients or beneficiaries of those services; and

(v) The likely impact of the services to be provided by the proposed project on the intended recipients of those services.

(c) Quality of the project design (20 points).

(1) The Secretary considers the quality of the design of the proposed project.

(2) In determining the quality of the design of the proposed project, the Secretary considers the following factors:

(i) The extent to which the goals, objectives, and outcomes to be achieved by the proposed project are clearly specified and measurable;

(ii) The extent to which the design of the proposed project includes a thorough, high-quality review of the relevant literature, a high-quality plan for project implementation, and the use of appropriate methodological tools to ensure successful achievement of project objectives;

(iii) The extent to which the design of the proposed project is appropriate to, and will successfully address, the needs of the target population or other identified needs;

(iv) The extent to which the design for implementing and evaluating the proposed project will result in information to guide possible replication of project activities or strategies, including information about the effectiveness of the approach or strategies employed by the project; and

(v) The extent to which there is a conceptual framework underlying the proposed research or demonstration activities and the quality of that framework.

(d) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) The adequacy of mechanisms for ensuring high-quality products and services from the proposed project;

(iv) How the applicant will ensure that a diversity of perspectives are brought to bear in the operation of the proposed project, including those of parents, teachers, the business community, a variety of disciplinary and professional fields, recipients or beneficiaries of services, or others, as appropriate; and

(v) The adequacy of procedures for ensuring feedback and continuous improvement in the operation of the proposed project.

(e) Adequacy of resources (10 points).

(1) The Secretary considers the adequacy of resources for the proposed project.

(2) In determining the adequacy of resources for the proposed project, the Secretary considers the following factors:

(i) The adequacy of support, including facilities, equipment, supplies, and other resources, from the applicant organization or the lead applicant organization;

(ii) The relevance and demonstrated commitment of each partner in the proposed project to the implementation and success of the project;

(iii) The extent to which the budget is adequate to support the proposed project;

(iv) The extent to which the costs are reasonable in relation to the objectives, design, and potential significance of the proposed project; and

(v) The extent to which the costs are reasonable in relation to the number of persons to be served and to the anticipated results and benefits.

(f) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation include the use of objective performance measures that are clearly related to the intended outcomes of the project and will produce quantitative and qualitative data to the extent possible;

(iii) The extent to which the methods of evaluation provide for examining the effectiveness of project implementation strategies;

(iv) The extent to which the methods of evaluation will provide performance feedback and permit periodic assessment of progress toward achieving intended outcomes; and

(v) The extent to which the evaluation plan clearly articulates the key project components, mediators, and outcomes, as well as a measurable threshold for acceptable implementation.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: Under the Government Performance and Results Act of 1993, the Department has established a set of performance measures, including long-term measures, that are designed to yield information on various aspects of the effectiveness and quality of the Educational Technology, Media, and Materials for Individuals with Disabilities Program. These measures are:

• Program Performance Measure #1: The percentage of Educational Technology, Media, and Materials Program products and services judged to be of high quality by an independent review panel of experts qualified to review the substantial content of the products and services.

• Program Performance Measure #2: The percentage of Educational Technology, Media, and Materials Program products and services judged to be of high relevance to improving outcomes for infants, toddlers, children, and youth with disabilities.

• Program Performance Measure #3: The percentage of Educational Technology, Media, and Materials Program products and services judged to be useful in improving results for infants, toddlers, children, and youth with disabilities.

• Program Performance Measure #4.1: The Federal cost per unit of accessible educational materials funded by the Educational Technology, Media, and Materials Program.

• Program Performance Measure #4.2: The Federal cost per unit of accessible educational materials from the National Instructional Materials Accessibility Center funded by the Educational Technology, Media, and Materials Program.

• Program Performance Measure #4.3: The Federal cost per unit of video description funded by the Educational Technology, Media, and Materials Program.

These measures apply to projects funded under this competition, and grantees are required to submit data on these measures as directed by OSEP.

Grantees will be required to report information on their project's performance in annual performance reports and additional performance data to the Department (34 CFR 75.590 and 75.591).

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5074A, Potomac Center Plaza, Washington, DC 20202-2500. Telephone: (202) 245-7363. If you use a TDD or a TTY, call the FRS, toll free, at 1-800-877-8339.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Johnny W. Collett,
Assistant Secretary for Special Education and Rehabilitative Services.

[FR Doc. 2019-11641 Filed 6-4-19; 8:45 am]

BILLING CODE 4000-01-P